ENVIRONMENTAL PROTECTION AGENCY

[EPA-HQ-OECA-2012-0655; FRL-9993-21-OMS]

Information Collection Request Submitted to OMB for Review and Approval; Comment Request; NSPS for Ammonium Sulfate Manufacturing Plants (Renewal)

AGENCY: Environmental Protection Agency (EPA).

ACTION: Notice.

SUMMARY: The Environmental Protection Agency (EPA) has submitted an information collection request (ICR), NSPS for Ammonium Sulfate Manufacturing Plants (EPA ICR Number 1066.09, OMB Control Number 2060-0032), to the Office of Management and Budget (OMB) for review and approval in accordance with the Paperwork Reduction Act. This is a proposed extension of the ICR, which is currently approved through May 31, 2019. Public comments were previously requested via the Federal Register on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 21, 2019.

ADDRESSES: Submit your comments, referencing Docket ID Number EPA- HQ-OECA-2012-0655, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be, are available in the public docket for this ICR. The docket can be viewed online at www.regulations.gov or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Ammonium Sulfate Manufacturing Plants (40 CFR part 60, subpart PP) were proposed on February 4, 1980, promulgated on November 12, 1980, and amended on October 17, 2000. These regulations apply to ammonium sulfate dryers located at both existing and new ammonium sulfate manufacturing plants in the caprolactam by-product, synthetic, and coke oven by-products sectors of the ammonium sulfate manufacturing industry. New facilities include those that commenced construction, modification or reconstruction after the date of proposal. This information is being collected to assure compliance with 40 CFR part 60, subpart PP.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS.

Form numbers: None.

Respondents/affected entities: Ammonium sulfate manufacturing facilities.

Respondent's obligation to respond: Mandatory (40 CFR part 60 Subpart PP).

Estimated number of respondents: 2 (total).

Frequency of response: Initially and semiannually.

Total estimated burden: 286 hours (per year). Burden is defined at 5 CFR 1320.3(b).

Total estimated cost: $32,600 (per year), which includes $0 for both annualized capital/startup and operation & maintenance costs.

Changes in the estimates: There is no change in the total estimated burden compared with the ICR currently approved by OMB. The regulations have not changed over the past three years and are not anticipated to change over the next three years; therefore, the growth rate for the industry is non-existent. This ICR reflects the on-going burden and costs for two existing facilities.

Courtney Kerwin,
Director, Regulation Support Division.

[FR Doc. 2019-10681 Filed 5-21-19; 8:45 am]

BILLING CODE 6560-50-P